SOCIAL SECURITY ADMINISTRATION

Agency Information Collection Activities: Emergency Request

The Social Security Administration (SSA) publishes a list of information collection packages requiring clearance by the Office of Management and Budget (OMB) in compliance with Public Law (Pub. L.) 104-13, the Paperwork Reduction Act of 1995, effective October 1, 1995. This notice includes a new information collection request for which we are requesting emergency OMB clearance.

SSA is soliciting comments on the accuracy of the agency's burden estimate; the need for the information; its practical utility; ways to enhance its quality, utility, and clarity; and ways to minimize burden on respondents, including the use of automated collection techniques or other forms of information technology. Mail, e-mail, or fax your comments and recommendations on the information collection to the OMB Desk Officer and the SSA Reports Clearance Officer to the following addresses or fax numbers.

(OMB) Office of Management and Budget, Attn: Desk Officer for SSA, Fax: 202-395-6974, E-mail address: OIRA_Submission@omb.eop.gov.

(SSA) Social Security Administration, DCBFM, Attn: Reports Clearance Officer, 1340 Annex Building, 6401 Security Blvd., Baltimore, MD 21235, Fax: 410-965-8783. E-mail address: OPLM.RCO@ssa.gov.

SSA submitted the information collection below to OMB for Emergency Clearance. SSA is requesting Emergency Clearance from OMB no later than August 2, 2010. Individuals can obtain copies of the collection instrument by calling the SSA Reports Clearance Officer or by writing to the above e-mail address.

Economic Recovery Payments Issued to Estates of Deceased Social Security Beneficiaries and Supplemental Security Income Recipients—0960—NEW

Background

The American Recovery and Reinvestment Act of 2009 (ARRA), Public Law 111-5, directs SSA to make one-time $250 Economic Recovery Payments (ERP) to certain Social Security beneficiaries and Supplemental Security Income (SSI) recipients. In some instances, the ERP was returned to SSA or not deposited due to the death of an appropriately certified ERP beneficiary or SSI recipient. SSA has received requests from the estates, or the deceased's estate representative, asking SSA to reissue the ERP to the deceased's estate. The ARRA has no provision discussing payment of ERPs to estates. However, SSA's Office of the General Counsel (OGC) has decided the ARRA provides a right to receive an ERP at the time of certification, and this right does not terminate with the recipient's death.

Information Collection

Because of the legal considerations discussed above, if a Social Security beneficiary or SSI recipient died before financially transacting the ERP, and the estate representatives of these beneficiaries/recipients approaches the agency and can provide the required information, SSA will provide the ERP reimbursement to the estate representatives.

Because we anticipate a small pool of respondents and are asking only a few questions, we are not creating a form for this collection; rather, we will ask the required information when estate representatives come to a field office or call a field office on the phone. Once the representative provides the required information, SSA's OGC will verify, under the applicable state or territorial law, if the requesting individual meets the requirements necessary to receive the ERP. We will then provide the reimbursement to these estate representatives, who are the respondents for this information collection.

Type of Request: Emergency clearance of a new information collection.

Number of Respondents: 1,000.

Frequency of Response: 1.

Average Burden per Response: 20 minutes.

Estimated Annual Burden: 333 hours.

Dated: July 21, 2010.
Faye Lipsky,
Reports Clearance Officer, Social Security Administration.

[FR Doc. 2010-18214 Filed 7-23-10; 8:45 am]

BILLING CODE 4191-02-P